GOVERNMENT ACCOUNTABILITY OFFICE

Appointments to the Medicare Payment Advisory Commission

AGENCY: Government Accountability Office (GAO).

ACTION: Notice of appointments.

SUMMARY: The Balanced Budget Act of 1997 established the Medicare Payment Advisory Commission (MedPAC) and gave the Comptroller General responsibility for appointing its members. This notice announces two new appointments and three reappointments to fill the vacancies occurring this year.

DATES: Appointments are effective May 1, 2005 through April 30, 2008.

ADDRESSES:

GAO: 441 G Street, NW., Washington, DC 20548.

MedPAC: 601 New Jersey Avenue, NW., Suite 9000, Washington, DC 20001.

FOR FURTHER INFORMATION CONTACT:

GAO: Molly Ryan, (202) 512-3592.

MedPAC: Mark E. Miller, Ph.D., (202) 220-3700.

SUPPLEMENTARY INFORMATION: To fill this year's vacancies I am announcing the following:

Newly appointed members are Jennie Chin Hansen, R.N., M.S.N., member, American Association of Retired Persons (AARP) Board of Directors, and Nancy M. Kane, D.B.A., professor of management, Department of Health Policy and Management, Harvard School of Public Health. Reappointed members are Nancy-Ann DeParle, J.D., senior advisor, JP Morgan Partners, LLC and adjunct professor of health care systems, The Wharton School, University of Pennsylvania; David F. Durenberger, chairman and chief executive officer, National Institute of Health Policy; and Nicholas J. Wolter, M.D., chief executive officer, Deaconess Billings Clinic.

(Sec. 4022, Pub. L. 105-33, 111 Stat. 251, 350)
David M. Walker,
Comptroller General of the United States.

[FR Doc. 05-11001 Filed 6-1-05; 8:45 am]

BILLING CODE 1610-02-M